DEPARTMENT OF ENERGY

Federal Energy Regulatory Commission

Combined Notice of Filings

Take notice that the Commission has received the following Natural Gas Pipeline Rate and Refund Report filings:

Filings Instituting Proceedings

Docket Numbers: RP17-53-000.

Applicants: National Fuel Gas Supply Corporation.

Description: § 4(d) Rate Filing: Settlement Rates 11/01/16 to be effective 11/1/2016.

Filed Date: 10/25/16.

Accession Number: 20161025-5012.

Comments Due: 5 p.m. ET 11/7/16.

Docket Numbers: RP17-54-000.

Applicants: El Paso Natural Gas Company, L.L.C.

Description: § 4(d) Rate Filing: Negotiated Rate Agreement Update (Conoco 2016) to be effective 11/1/2016.

Filed Date: 10/25/16.

Accession Number: 20161025-5054.

Comments Due: 5 p.m. ET 11/7/16.

Docket Numbers: RP17-55-000.

Applicants: Iroquois Gas Transmission System, L.P.

Description: § 4(d) Rate Filing: 10/25/16 Negotiated Rates—Freepoint Commodities LLC (RTS) 7250-16 to be effective 11/1/2016.

Filed Date: 10/25/16.

Accession Number: 20161025-5058.

Comments Due: 5 p.m. ET 11/7/16.

Docket Numbers: RP17-56-000.

Applicants: Iroquois Gas Transmission System, L.P.

Description: § 4(d) Rate Filing: 10/25/16 Negotiated Rates—Freepoint Commodities LLC (RTS) 7250-17 to be effective 11/1/2016.

Filed Date: 10/25/16.

Accession Number: 20161025-5059.

Comments Due: 5 p.m. ET 11/7/16.

Docket Numbers: RP17-57-000.

Applicants: Iroquois Gas Transmission System, L.P.

Description: § 4(d) Rate Filing: 10/25/16 Negotiated Rates—Freepoint Commodities LLC (RTS) 7250-18 to be effective 11/1/2016.

Filed Date: 10/25/16.

Accession Number: 20161025-5061.

Comments Due: 5 p.m. ET 11/7/16.

Docket Numbers: RP17-58-000.

Applicants: Natural Gas Pipeline Company of America.

Description: § 4(d) Rate Filing: ConocoPhillips Negotiated Rate to be effective 11/1/2016.

Filed Date: 10/25/16.

Accession Number: 20161025-5094.

Comments Due: 5 p.m. ET 11/7/16.

Docket Numbers: RP17-59-000.

Applicants: El Paso Natural Gas Company, L.L.C.

Description: § 4(d) Rate Filing: Non-Conforming Negotiated Rate Agreement Filing (GIGO) to be effective 11/1/2016.

Filed Date: 10/25/16.

Accession Number: 20161025-5106.

Comments Due: 5 p.m. ET 11/7/16.

Docket Numbers: RP17-60-000.

Applicants: Iroquois Gas Transmission System, L.P.

Description: § 4(d) Rate Filing: 10/25/16 Negotiated Rates—Consolidated Edison Energy Inc. (HUB) 2275-89 to be effective 11/1/2016.

Filed Date: 10/25/16.

Accession Number: 20161025-5108.

Comments Due: 5 p.m. ET 11/7/16.

Docket Numbers: RP17-61-000.

Applicants: Natural Gas Pipeline Company of America.

Description: § 4(d) Rate Filing: Tenaska Marketing Negotiated Rate to be effective 11/1/2016.

Filed Date: 10/25/16.

Accession Number: 20161025-5109.

Comments Due: 5 p.m. ET 11/7/16.

Docket Numbers: RP17-62-000.

Applicants: Iroquois Gas Transmission System, L.P.

Description: § 4(d) Rate Filing: 10/25/16 Negotiated Rates—Mercuria Energy America, Inc. (HUB) 7450-89 to be effective 11/1/2016.

Filed Date: 10/25/16.

Accession Number: 20161025-5110.

Comments Due: 5 p.m. ET 11/7/16.

The filings are accessible in the Commission's eLibrary system by clicking on the links or querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: October 26, 2016.
Nathaniel J. Davis, Sr.,
Deputy Secretary.

[FR Doc. 2016-26443 Filed 11-1-16; 8:45 am]

BILLING CODE 6717-01-P